DEPARTMENT OF THE INTERIOR

Bureau of Land Management

[NV-930-1430-ET; NVN-83979; 8-08807; TAS: 14X1109]

Notice of Public Meetings for Proposed Withdrawal in Nye and Clark Counties, NV

AGENCY: Bureau of Land Management, Interior.

ACTION: Notice of Public Meetings.

SUMMARY: The Secretary of the Interior proposes to withdraw on behalf of the Bureau of Land Management (BLM) approximately 944,343 acres of public lands from settlement, sale, location, entry, or patent under the United States mining laws for a period of 20 years for the protection of desert tortoise habitat, archaeological and cultural resources, and special wildlife and riparian values on 24 Areas of Critical Environmental Concern (ACEC) in accordance with Sec. 204 of the Federal Land Policy and Management Act of October 21, 1976, 43 U.S.C. 1714 (2000). In accordance with 43 CFR 2310.3-1(b), (2)(v), this notice announces public meetings on the proposed withdrawal.

Dates And Times: Public meetings will be held on Tuesday, January 22, and Thursday, January 24, 2008. Times for both meetings will be 6 p.m. to 8 p.m.

ADDRESSES: The January 22 meeting will be held at the BLM Las Vegas Field Office (Conference Room A), 4701 N. Torrey Pines Drive, Las Vegas, Nevada. The January 24 meeting will be held at the Bob Ruud Community Center (Room B), 150 N. Highway 160, Pahrump, Nevada. For those unable to attend the meetings, comments may be mailed to the Field Manager, BLM Las Vegas Field Office, 4701 N. Torrey Pines Drive, Las Vegas, NV 89130. The 90-day comment period ends January 30, 2008.

FOR FURTHER INFORMATION CONTACT: Patrick Putnam, BLM Las Vegas Field Office, (702) 515-5042.

SUPPLEMENTARY INFORMATION: The purpose of the public meetings is to allow the public the opportunity to comment on the proposed withdrawal, disclose the mineral potential within the ACECs, and to describe how the proposed withdrawal would continue the protection and preservation of wildlife habitat and historic properties located within ACEC boundaries. Furthermore, as stated in 43 CFR 2310.3-1(c)(iii), these meetings will help the BLM develop information which would otherwise be difficult or costly to accumulate.

A Notice of Proposed Withdrawal and Opportunity for Public Meeting; Nevada, was published in the Federal Register on November 1, 2007. That notice established a 90-day public comment period that will end on January 30, 2008.

All persons who wish to submit comments, suggestions, or objections in connection with the proposed withdrawal may present their views at the scheduled meetings or may do so in writing to the BLM Las Vegas Field Office. Facsimiles, telephone calls, and e-mails are unacceptable means of notification. All comments will be collected and minutes recorded throughout the course of the meetings. Depending on the number of persons wishing to comment and time available, the time for individual oral comments may be limited. Individuals who plan to attend and need special assistance, such as sign language interpretation or other reasonable accommodations, should contact the BLM prior to the meeting.

Comments, including names and street addresses of respondents, will be available for public review at the BLM Las Vegas Field Office, at the address noted above during regular business hours 7:30 a.m. to 4:30 p.m., Monday through Friday, except holidays. Before including your address, phone number, e-mail address, or other personal identifying information in your comments be advised that your entire comment—including your personal identifying information—may be made publicly available at any time. While you can ask us in your comment to withhold your personal identifying information from public review, we cannot guarantee that we will be able to do so. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

(Authority: 43 CFR 2310.3-1)

Dated: December 12, 2007.
Patrick Putnam,
Acting Assistant Field Manager, Renewable Resources, Las Vegas Field Office.

[FR Doc. E7-24522 Filed 12-18-07; 8:45 am]

BILLING CODE 4310-HC-P